DEPARTMENT OF TRANSPORTATION

Office of the Secretary

Application of Charter Air Transport, Inc. for Commuter Authority

Correction

In notice document 2010-5555 appearing on page 12328 in the issue of Monday, March 15, 2010, make the following correction:

In the second column, in the first paragraph, in the first line, “ (insert date 5 business days from publication)” should read “March 22, 2010”.

[FR Doc. C1-2010-5555 Filed 3-18-10; 8:45 am]

BILLING CODE 1505-01-D